ENVIRONMENTAL PROTECTION AGENCY

[FRL-9919-98-ORD]

Announcement of the IRIS Bimonthly Public Science Meeting Calendar for 2015

AGENCY: Environmental Protection Agency (EPA).

ACTION: Notice of IRIS Bimonthly Public Science Meetings for calendar year 2015.

SUMMARY: EPA's Integrated Risk Information System (IRIS) Program is committed to proactive stakeholder engagement, transparency, and using the best available science in IRIS assessments. In accordance with the increased stakeholder engagement enhancements adopted by the IRIS Program, EPA is announcing a series of public science meetings for calendar year 2015 to obtain public input at specific stages in the process of developing an IRIS assessment.

DATES: The 2015 IRIS Bimonthly Public Science Meetings will be held on the dates specified below. They will generally begin at 9:00 a.m. and end at 5:00 p.m., Eastern Time, or earlier, if comments and discussions have been completed. A two day time period has been reserved for each meeting, but the actual duration will be specified when the agendas are developed for each meeting throughout the year. All future announcements and information about the meetings planned for 2015, and the availability of EPA meeting materials for the chemicals undergoing assessment by the IRIS Program, will be posted on the IRIS Web site (http://www.epa.gov/iris/publicmeeting/). In the event there are no materials to be discussed for any of the set meeting dates, a notice canceling the meeting will be posted on the IRIS Web site.

IRIS Bimonthly Public Science Meetings Dates

February 25-26, 2015

April 29-30, 2015

June 17-18, 2015

September 2-3, 2015

October 28-29, 2015

December 16-17, 2015

ADDRESSES: The public meetings announced in this notice will be held at the EPA conference center at One Potomac Yard (South Building), 2777 South Crystal Drive, Arlington, Virginia, 22202. To gain entrance to this EPA building, attendees must register at the security desk in the lobby and present photo identification. In accordance with the Real ID Act, which went into effect on July 2014, driver's license from Alaska, American Samoa, Arizona, Louisiana, Maine, Massachusetts, Minnesota, New York, Oklahoma, and Washington will not be accepted as a photo ID. Detailed information on photo ID requirements are provided on the IRIS public meeting Web site. To promote the broadest possible participation, a webinar and teleconference line will also be available for registered attendees/discussants.

EPA will make every effort to accommodate persons with disabilities. For information on access or services for individuals with disabilities, contact Christine Ross, IRIS Staff, Environmental Protection Agency, National Center for Environmental Assessment, Mail Code: 8601P; telephone: 703-347-8592; facsimile: 703-347-8689; or email: ross.christine@epa.gov and include your name and contact information.

FOR FURTHER INFORMATION CONTACT: For general information about IRIS public meetings, please contact Christine Ross, IRIS Staff, Environmental Protection Agency, National Center for Environmental Assessment (NCEA), Mail Code: 8601P; telephone: 703-347-8592; facsimile: 703-347-8689; or email: ross.christine@epa.gov. For information regarding the subject matter of a specific meeting, please contact the EPA representative identified on the IRIS public meeting Web site that will be established for each meeting (http://www.epa.gov/iris/publicmeeting/).

SUPPLEMENTARY INFORMATION:

I. Information About IRIS

EPA's IRIS Program is a human health assessment program that evaluates quantitative and qualitative risk information on effects that may result from exposure to chemical substances found in the environment. Through the IRIS Program, EPA provides the highest quality science-based human health assessments to support EPA's regulatory activities and decisions to protect public health. The IRIS database contains information for chemical substances that can be used to support the first two steps (hazard identification and dose-response evaluation) of the human health risk assessment process. When supported by available data, IRIS provides health effects information and toxicity values for health effects (including cancer and effects other than cancer). Government and others combine IRIS toxicity values with exposure information to characterize public health risks of chemical substances; this information is then used to support risk management decisions designed to protect public health.

II. IRIS Public Science Meetings Conducted in 2013 and 2014

The IRIS Program began conducting Bimonthly Public Science Meetings in December 2013 and continued through 2014. During this period, a total of five public science meetings were held. These meetings covered 12 chemicals undergoing assessment, including 2 assessments undergoing problem formulation, 8 assessments in the step 1 literature search and evidence table phase, and 2 assessments in the step 4 draft assessment phase as indicated in the following table.

Date | Step | Chemical
December 12-13, 2013 | Step 1 Literature Search and Evidence Table Step 4 Public Comment Draft | ethyl tert-butyl ether (ETBE). Tert-butyl alcohol (tert-butanol). hexahydro-1,3,5-trinitro-1,3,5-triazine (RDX).
| ethylene oxide (EtO) benzo[a]pyrene (BaP)
April 23-24, 2014 | Step 1 Literature Search and Evidence Table | hexabromocyclododecane (HBCD). diethyl phthalate (DEP).
June 25-27, 2014 | Step 1 Literature Search and Evidence Table | inorganic arsenic (iAs). hexavalent chromium (Cr(VI)).
September 3, 2014 | Step 0 Problem Formulation | ethylbenzene. naphthalene.
October 29-30, 2014 | Step 1 Literature Search and Evidence Table | hexavalent chromium (Cr(VI)). diisononyl phthalate (DINP).

Meeting materials for each of these meetings are available on the IRIS Web site (http://www.epa.gov/iris/publicmeeting/). A chemical specific docket has also been established (http://www.regulations.gov) where public comments and presentations are available for each of the chemicals discussed at an IRIS public science meeting. In addition, a general IRIS docket (EPA-HQ-ORD-2014-0211) is available at Regulations.gov for comments on cross-cutting issues broadly applicable to IRIS assessments. The IRIS public meeting Web site and chemical specific dockets are intended to provide transparency regarding stakeholder input on IRIS assessments. Posting of public comments and presentations are not an EPA endorsement of, or agreement with, any information or viewpoints presented in the public comments and presentations, nor is it an EPA endorsement of the quality or correctness of such information and viewpoints. In addition, mention of any trade names or commercial products in posted meeting material does not constitute a recommendation by EPA for use.

III. IRIS Public Science Meetings Scheduled for 2015

Public meetings will be held approximately every 2 months beginning on February 25-26, 2015. Materials for the public meetings will begin to be posted on the IRIS Web site (http://www.epa.gov/iris/publicmeeting/) in advance of the meeting (generally 2-3 months). The meetings will provide an opportunity for the public to provide input on problem formulation and preliminary materials prior to development of the draft assessment and provide input on drafts of assessments and charges to the peer review panels prior to external peer review. The planned meeting dates for calendar year 2015 are: February 25-26, 2015; April 29-30, 2015; June 17-18, 2015; September 2-3, 2015; October 28-29, 2015; and December 16-17, 2015.

Before an IRIS assessment begins, EPA releases scoping and problem formulation materials which frame the scientific questions and key issues that will be addressed in the assessment. In step 1 of the IRIS process (development of the draft assessment), EPA releases preliminary materials comprised of the draft literature search strategies, describing the processes for identifying and screening scientific literature, and the literature search results, and the preliminary evidence tables and preliminary exposure-response arrays summarizing key characteristics and findings from studies that EPA proposes to consider when identifying hazards and characterizing exposure-response relationships. EPA will hold a public meeting to discuss these materials. In step 4 of the IRIS process (public review and comment/independent expert peer review), EPA releases the draft assessment and draft peer review charge for public comment and also holds a public meeting to discuss these materials.

The IRIS Program believes that public involvement can be most beneficial at the early stages of developing an assessment. Releasing problem formulation materials, the draft literature search strategy, preliminary evidence tables, and preliminary exposure response arrays early will ensure that critical research is not omitted and communicates to the public the body of literature chosen for further evaluation, helping frame major scientific questions and ultimately leading to more efficient production of assessments. Meeting materials provided at the early stage of an assessment, such as preliminary evidence tables, have not been subjected to external peer review, and they do not constitute EPA policy, support an EPA decision or position, or represent any EPA determination. Such materials are being distributed with the sole objective of facilitating a public scientific discussion that is intended to promote the use of the best available science and improve the utility and clarity of IRIS assessments.

IV. Meeting Registration

Individuals planning to attend an IRIS Bimonthly Public Science Meeting must register for each Bimonthly meeting. Registrants are required to provide their name, contact information, company/organization, and to identify the organization they are representing if they are attending on behalf of another organization. Registrants must also indicate whether they would like to participate as an opening discussant on one or more of the key science questions identified by EPA. If a registrant intends to request time on the agenda as an opening discussant they should register no later than 30 days before the meeting. All other participants should register no later than 7 days before the meeting. Details regarding registration procedures (in person, via webinar, or teleconference) for each meeting will be posted on the IRIS Web site (http://www.epa.gov/iris/publicmeeting/).

V. Meeting Materials and Meeting Format

The assessment materials and the key science questions that will be discussed at each public science meeting will be posted on the IRIS Web site (http://www.epa.gov/iris/publicmeeting/) 2 to 3 months before each meeting. The IRIS Program uses a meeting format intended to promote public discussion. This format emphasizes conversational exchanges over presentations, with slides used mainly to present concepts and data via figures and tables. To provide a reasonable opportunity for all stakeholders to participate in a thoughtful public dialogue on the scientific questions, it is important that comments and visual aids opening discussants intend to use during the meeting be made available to the public prior to the meeting. Therefore, opening discussants are requested to submit these materials to the appropriate chemical docket, and the meeting organizer specified on the IRIS Web site, two weeks in advance of the meeting. Materials submitted to the docket will become available to the public shortly after submission.

VI. Independent Scientific Experts

The IRIS Program has benefited from the scientific discussions and information presented during the 2013 and 2014 Bimonthly Public Science Meetings. In May 2014, the National Research Council (NRC) 2014 Report on the IRIS Process was released. The NRC report recommended EPA continue with additional efforts to ensure the full breadth of perspectives are made available to EPA when discussing the IRIS process and specific IRIS assessments. To broaden the input the IRIS Program receives at the Bimonthly Public Science Meetings, EPA has asked the National Research Council to identify additional scientific experts to participate in the Bimonthly Public Science Meeting discussions. All stakeholders and the public will continue to have the same opportunity to participate as discussants by registering for the meetings under the established procedures. Experts identified by the National Research Council, reviewed for conflict of interest and bias, will participate as discussants in their own capacity to contribute intellectual leadership to discussions on critical scientific questions. The final determination of who serves as an expert participant is made independently by the National Research Council.

VII. How to Submit Materials to the Docket at http://www.regulations.gov

EPA invites the public to submit comments and other relevant information regarding the chemicals discussed at a public science meeting to the appropriate docket number established for each chemical when the agenda for each meeting is released. Such data, information, or comments may be submitted to the appropriate docket by one of the following methods:

• http://www.regulations.gov: Follow the on-line instructions for submitting materials

• Email: Docket_ORD@epa.gov

• Facsimile: 202-566-9744

• Mail: U.S. Environmental Protection Agency, EPA Docket Center [ORD Docket], (Mail Code: 28221T), 1200 Pennsylvania Ave. NW., Washington, DC 20460. The telephone number is 202-566-1752. If you provide materials by mail, please submit one unbound original with pages numbered consecutively, and three copies of the materials. For attachments, provide an index, number pages consecutively with the comments, and submit an unbound original and three copies.

• Hand Delivery: The ORD Docket is located in the EPA Headquarters Docket Center, EPA West Building, Room 3334, 1301 Constitution Ave. NW., Washington, DC. The EPA Docket Center Public Reading Room is open from 8:30 a.m. to 4:30 p.m., Monday through Friday, excluding legal holidays. The telephone number for the Public Reading Room is 202-566-1744. Deliveries are only accepted during the docket's normal hours of operation, and special arrangements should be made for deliveries of boxed information. If you provide comments by hand delivery, please submit one unbound original with pages numbered consecutively, and three copies of the comments. For attachments, provide an index, number pages consecutively with the comments, and submit an unbound original and three copies.

It is EPA's policy to include all materials it receives in the public docket without change and to make the materials available online at http://www.regulations.gov, including any personal information provided, unless materials include information claimed to be Confidential Business Information (CBI) or other information whose disclosure is restricted by statute. Do not submit information that you consider to be CBI or otherwise protected through http://www.regulations.gov or email. Posting of materials received in the public docket is not an EPA endorsement of, or agreement with, any information or viewpoints presented in the materials, nor is it an EPA endorsement of the quality or correctness of such information and viewpoints. The http://www.regulations.gov Web site is an “anonymous access” system, which means that EPA will not know your identity or contact information unless you provide it in the body of your materials. If you send email comments directly to EPA without going through http://www.regulations.gov, your email address will be automatically captured and included as part of the materials that are placed in the public docket and made available on the Internet. If you submit electronic materials, EPA recommends that you include your name and other contact information in the body of your materials and with any disk or CD-ROM you submit. If EPA cannot read your materials due to technical difficulties and cannot contact you for clarification, EPA may not be able to consider your materials. Electronic files should avoid the use of special characters and any form of encryption and be free of any defects or viruses. For additional information about EPA's public docket, visit the EPA Docket Center homepage at http://www.epa.gov/epahome/dockets.htm.

All documents in the docket are listed in the http://www.regulations.gov index. Although listed in the index, some information is not publicly available, e.g., CBI or other information whose disclosure is restricted by statute. Certain other material, such as copyrighted material, will be publicly available only in hard copy. Publicly available docket materials are available either electronically at http://www.regulations.gov or in hard copy at the ORD Docket in the EPA Headquarters Docket Center.

Dated: December 5, 2014.
Gina Perovich,
Acting Deputy Director, National Center for Environmental Assessment.

[FR Doc. 2014-29191 Filed 12-12-14; 8:45 am]

BILLING CODE 6560-50-P